DEPARTMENT OF ENERGY

Federal Energy Regulatory Commission

Notice of Sunshine Act Meeting

December 10, 2003.

The following notice of meeting is published pursuant to section 3(a) of the Government in the Sunshine Act (Pub. L. 94-409), 5 U.S.C 552b:

Agency Holding Meeting: Federal Energy Regulatory Commission.

Date and Time: December 17, 2003, 10 a.m.

Place: Room 2C, 888 First Street, NE., Washington, DC 20426.

Status: Open.

Matters to be Considered: Agenda. * Note—Items listed on the agenda may be deleted without further notice.

Contact Person for More Information: Magalie R. Salas, Secretary, Telephone (202) 502-8400. For a recording listing items stricken from or added to the meeting, call (202) 502-8627.

This is a list of matters to be considered by the Commission. It does not include a listing of all papers relevant to the items on the agenda; however, all public documents may be examined in the Reference and Information Center.

846th Meeting—December 17, 2003; Regular Meeting, 10 a.m.

Administrative Agenda

A-1.

Docket# AD02-1, 000, Agency Administrative Matters.

A-2.

Docket# AD02-7, 000, Customer Matters, Reliability, Security and Market Operations; Follow-up to December 1, 2003, Reliability-Related Technical Conference.

Markets, Tariffs and Rates—Electric

E-1.

Docket# AD04-2, 000, MISO Business Plan Update: Implementation of Reliability Improvements and Market Design Steps.

E-2.

Docket# OA97-261, 006, Pennsylvania-New Jersey-Maryland Interconnection.

Other#s EC96-28, 007, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company.

EC96-29, 007, PECO Energy Company.

EL96-69, 007, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company.

ER96-2516, 007, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company.

ER96-2668, 007, PECO Energy Company.

EC97-38, 005, Pennsylvania Electric Company, Pennsylvania Power & Light Company, Potomac Electric Power Company, Public Service Electric and Gas Company, Atlantic City Electric Company, Baltimore Gas and Electric Company, Delmarva Power & Light Company, Jersey Central Power & Light Company, Jersey Central Power & Light Company and Metropolitan Edison Company.

EL97-44, 005, Pennsylvania-New Jersey-Maryland Interconnection Restructuring.

ER97-1082, 008, Pennsylvania-New Jersey-Maryland Interconnection.

ER97-3189, 034, Atlantic City Electric Company, Baltimore Gas and Electric Company, Delmarva Power & Light Company, Jersey Central Power & Light Company and Metropolitan Edison Company.

ER97-3273, 005, Pennsylvania Electric Company, Pennsylvania Power & Light Company, Potomac Electric Power Company, Public Service Electric and Gas Company and Pennsylvania-New Jersey-Maryland Interconnection Restructuring.

OA97-678, 005, PJM Interconnection, L.L.C.

E-3.

Docket# PA03-12, 000, Transmission Congestion on the Delmarva Peninsula.

E-4.

Docket# ER03-1141, 000, New England Power Pool and ISO New England, Inc.

Other#s EL03-222, 000, Maine Public Utilities Commission, Maine Public Advocate, Rhode Island Public Utilities Commission, Pinpoint Power, NRG Energy, Inc. and GenPower, LLC., v. New England Power Pool and ISO New England, Inc.

ER03-1141, 001, New England Power Pool and ISO New England, Inc.

ER03-1141, 002, New England Power Pool and ISO New England, Inc.

EL03-222, 001, Maine Public Utilities Commission, Maine Public Advocate, Rhode Island Public Utilities Commission, Pinpoint Power, NRG Energy, Inc. and GenPower, LLC., v. New England Power Pool and ISO New England, Inc.

EL03-222, 002, Maine Public Utilities Commission, Maine Public Advocate, Rhode Island Public Utilities Commission, Pinpoint Power, NRG Energy, Inc. and GenPower, LLC., v. New England Power Pool and ISO New England, Inc.

E-5.

Docket# EC03-131, 000, Oklahoma Gas & Electric Company and NRG McClain LLC.

E-6.

Docket# ER04-55, 000, Maine Yankee Atomic Power Company.

E-7.

Omitted

E-8.

Omitted

E-9.

Omitted

E-10.

Docket# ER04-35, 000, Entergy Services, Inc.

E-11.

Docket# RT03-2, 000, Three Rivers Energy LLC.

E-12.

Docket# OA97-237, 012, New England Power Pool and New England Independent System Operator.

Other#s OA97-237, 013, New England Power Pool and New England Independent System Operator.

OA97-237, 014, New England Power Pool and New England Independent System Operator.

E-13.

Omitted

E-14.

Docket# ER01-2214, 002, Entergy Services, Inc.

E-15.

Omitted

E-16.

Docket# EL00-95, 077, San Diego Gas & Electric Company v. Sellers of Energy and Ancillary Services into Markets Operated by the California Independent System Operator Corporation and the California Power Exchange.

Other#s EL00-98, 065, Investigation of Practices of the California Independent System Operator Corporation and the California Power Exchange.

E-17.

Docket# ER01-889, 014, California Independent System Operator Corporation.

Other#s EL00-95, 072, San Diego Gas & Electric Company v. Sellers of Energy and Ancillary Services Into Markets Operated by the California Independent System Operator Corporation and the California Power Exchange.

ER01-889, 015, California Independent System Operator Corporation.

ER01-3013, 006, California Independent System Operator Corporation.

E-18.

Omitted

E-19.

Docket# EL03-27, 001, Niagara Mohawk Power Corporation v. Huntley Power LLC, NRG Huntley Operations, Inc., Dunkirk Power LLC, NRG Dunkirk Operations, Inc., Oswego Harbor Power LLC and NRG Oswego Operations, Inc.

E-20.

Docket# ER03-421, 002, PPL Wallingford Energy LLC.

Other#s ER03-421, 004, PPL Wallingford Energy LLC.

ER03-421, 006, PPL Wallingford Energy LLC.

ER03-563, 011, Devon Power LLC.

ER03-563, 013, Devon Power LLC.

ER03-563, 015, Devon Power LLC.

ER03-563, 017, Devon Power LLC.

ER03-563, 019, Devon Power LLC.

ER03-563, 022, Devon Power LLC.

E-21.

Docket# ER01-313, 003, California Independent System Operator Corporation.

Other#s ER01-424, 003, Pacific Gas and Electric Company.

EL03-131, 000, San Diego Gas & Electric Company v. California Independent System Operator Corporation.

E-22.

Omitted

E-23.

Omitted

E-24.

Docket# RT01-1, 003, RTO Informational Filings.

Other#s RT01-3, 001, Citizens Communications Company.

RT01-5, 001, Maine Public Service Company.

RT01-11, 001, Baconton Power LLC.

RT01-19, 001, Maine Electric Power Company.

RT01-30, 001, Florida Keys Electric Cooperative Association, Inc.

RT01-39, 001, Concord Electric Company and Exeter & Hampton Electric Light Company.

RT01-61, 001, Northern Maine Independent System Administrator Inc.

RT01-86, 004, Bangor Hydro-Electric Co., Central Maine Power Company, National Grid USA, Northeast Utilities Service Company, United Illuminating Company, Vermont Electric Power Company and ISO New England Inc.

RT01-90, 003, Fitchburg Gas & Electric Light Company, Concord Electric Company and Exeter & Hampton Electric Light Company.

RT01-94, 004, NSTAR Services Company.

RT01-95, 004, New York Independent System Operator Inc.

RT01-97, 001, Central Vermont Public Service Corporation, Citizens Communications Company, Green Mountain Power Corporation and Vermont Electric Power Company.

RT01-99, 001, Regional Transmission Organizations.

RT02-3, 001, ISO New England Inc., and New York Independent System Operator, Inc.

E-25.

Docket# ER02-1656, 014, California Independent System Operator Corporation.

Other#s EL01-68, 027, Investigation of Wholesale Rates of Public Utility Sellers of Energy and Ancillary Services in the Western Electricity Coordinating Council.

ER02-2576, 004, California Independent System Operator Corporation.

ER02-1656, 010, California Independent System Operator Corporation.

ER02-1656, 011, California Independent System Operator Corporation.

ER02-1656, 012, California Independent System Operator Corporation.

E-26.

Docket# ER00-1831, 005, CinCap VII, LLC.

Other#s ER00-1784, 006, CinCap Madison, LLC.

ER02-319, 003, CinCap VII, LLC.

ER02-322, 004, CinCap Madison, LLC.

E-27.

Docket# EL02-23, 002, Consolidated Edison Company of New York, Inc., v. Public Service Electric and Gas Company, PJM Interconnection, L.L.C. and New York Independent System Operator.

Other#s EL02-23, 001, Consolidated Edison Company of New York, Inc., v. Public Service Electric and Gas Company, PJM Interconnection, L.L.C. and New York Independent System Operator.

E-28.

Omitted

E-29.

Docket# ER03-690, 002, New York Independent System Operator, Inc.

E-30.

Docket# ER03-552, 004, New York Independent System Operator, Inc.

Other#s ER03-552, 005, New York Independent System Operator, Inc.

ER03-984, 002, New York Independent System Operator, Inc.

ER03-984, 003, New York Independent System Operator, Inc.

E-31.

Docket# EL02-121, 005, Occidental Chemical Corporation v. PJM Interconnection, L.L.C. and Delmarva Power & Light Company.

E-32.

Docket# EL03-197, 002, PPM Energy, Inc. (f/k/a PacifiCorp Power Marketing, Inc.)

Other#s EL03-138, 002, Aquila Merchant Services, Inc. (f/k/a Aquila, Inc.)

EL03-181, 002, Aquila Merchant Services, Inc. (f/k/a Aquila, Inc.)

EL03-188, 002, Eugene Water and Electric Board.

E-33.

Docket# ER03-1221, 001, California Independent System Operator Corporation.

E-34.

Omitted

E-35.

Omitted

E-36.

Docket# RM01-8, 000, Filing Requirements for Electric Utility Service Agreements.

Other#s ER02-2001, 000, Electric Quarterly Reports.

E-37.

Omitted

E-38.

Docket# EL03-14, 000, City of Azusa, California.

Other#s EL03-15, 000, City of Anaheim, California.

EL03-15, 002, City of Anaheim, California.

EL03-20, 002, City of Riverside, California.

EL03-20, 000, City of Riverside, California.

EL03-21, 000, City of Banning, California.

E-39.

Omitted

E-40.

Docket# EL04-16, 000, Devon Power, LLC, Middletown Power LLC, Montville Power LLC and Norwalk Power LLC.

E-41.

Docket# EL04-12, 000, Springerville Unit 3 Holding, LLC.

E-42.

Docket# EL03-123, 000, Richard Blumenthal, Attorney General of the State of Connecticut, and the Connecticut Department of Public Utility Control v. NRG Power Marketing, Inc.

Other#s EL03-134, 000, Richard Blumenthal, Attorney General of the State of Connecticut, and the Connecticut Department of Public Utility Control v. NRG Power Marketing, Inc.

EL03-129, 000, Connecticut Light and Power Company.

EL03-123, 001, Richard Blumenthal, Attorney General of the State of Connecticut, and the Connecticut Department of Public Utility Control v. NRG Power Marketing, Inc.

E-43.

Docket# EL03-56, 000, American Municipal Power—Ohio, Inc. v. Dayton Power and Light Company and PJM Interconnection, L.L.C.

E-44.

Omitted

E-45.

Docket# EL03-204, 000, AES Somerset, LLC v. Niagara Mohawk Power Corporation.

E-46.

Docket# EL04-2, 000, Sacramento Municipal Utility District v. Pacific Gas and Electric Company, Southern California Edison Company and San Diego Gas & Electric Company.

E-47.

Docket# EL03-234, 000, Nine Mile Point Nuclear Station, LLC v. Niagara Mohawk Power Corporation.

E-48.

Docket# EL01-93, 009, Mirant Americas Energy Marketing, LP, Mirant New England, LLC, Mirant Kendall, LLC, and Mirant, LLC v. ISO New England Inc.

E-49.

Omitted

E-50.

Omitted

E-51.

Omitted

E-52.

Docket# EL03-117, 000, Investigation of Certain Enron-Affiliated QF's.

Other#s QF86-972, 006, Cogen Technologies NJ Venture.

QF90-65, 008, Cogen Technologies Linden Venture, L.P.

QF90-87, 008, Camden Cogen, L.P.

E-53.

Omitted

E-54.

Omitted

E-55.

Docket# ER98-495, 000, Pacific Gas and Electric Company.

Other#s ER98-1614, 000, Pacific Gas and Electric Company.

ER98-2145, 000, Pacific Gas and Electric Company.

ER99-3603, 000, Pacific Gas and Electric Company.

E-56.

Omitted

E-57.

Docket# ER93-465, 000, Florida Power & Light Company.

Other#s ER96-417, 000, Florida Power & Light Company.

ER96-1375, 000, Florida Power & Light Company.

OA97-245, 000, Florida Power & Light Company.

OA96-39, 000, Florida Power & Light Company.

E-58.

Docket# TX96-4, 001, Suffolk County Electrical Agency.

E-59.

Docket# EL03-47, 003, Investigation of Certain Enron-Affiliated QF's.

Other#s QF83-278, 009, Lumberton Power, LLC.

QF83-316, 010, Elizabethtown Power, LLC.

E-60.

Docket# EL03-47, 002, Investigation of Certain Enron-Affiliated QF's.

Other#s QF95-328, 004, EcoElectrica, L.P.

E-61.

Omitted

E-62.

Docket# EC04-18, 000, Alfalfa Electric Cooperative, Inc., Choctaw Electric Cooperative, Inc., and People's Electric Cooperative.

Other#s EL04-18, 000, Alfalfa Electric Cooperative, Inc., Choctaw Electric Cooperative, Inc., and People's Electric Cooperative.

E-63.

Docket# EL02-114, 000, Portland General Electric Company.

Other#s EL02-114, 006, Portland General Electric Company.

EL02-115, 001, Enron Power Marketing, Inc.

EL02-115, 007, Enron Power Marketing, Inc.

E-64.

Docket# EL03-236, 000, PJM Interconnection L.L.C.

E-65.

Docket# ER03-668, 001, Southwest Power Pool, Inc.

E-66.

Docket# ER03-1081, 002, Midwest Independent Transmission System Operator, Inc.

Other#s ER03-1081, 001, Midwest Independent Transmission System Operator, Inc.

E-67.

Docket# PA02-2, 000, Fact-Finding Investigation of Potential Manipulation of Electric and Natural Gas Prices.

Other#s PA03-1, 000, American Electric Power Company, Inc.

PA03-2, 000, Aquila Marketing Service.

PA03-3, 000, Coral Energy Resources, L.P.

PL03-3, 000, Price Discovery in Natural Gas and Electric Markets.

PA03-4, 000, CMS Marketing Services & Trading.

PA03-5, 000, Dynegy Inc.

PA03-6, 000, Duke Energy Trading and Marketing LLC.

AD03-7, 000, Natural Gas Price Formation.

PA03-7, 000, El Paso Merchant Energy, L.P.

PA03-8, 000, Mirant Americas Energy Marketing L.P.

PA03-9, 000, Reliant Resources, Inc.

IN03-10, 000, Investigation of Anomalous Bidding. Behavior and Practices in the Western Markets.

PA03-10, 000, Sempra Energy Trading Corp.

PA03-11, 000, Williams Energy Marketing & Trading Company.

EL03-59, 000, Reliant Energy Services, Inc.

EL03-60, 000, BP Energy Company.

EL03-77, 000, Enron Power Marketing, Inc., and Enron Energy Services Inc.

RP03-311, 000, Bridgeline Gas Marketing L.L.C., Citrus Trading Corporation, ENA Upstream Company, LLC, Enron Canada Corp., Enron Compression Services Company, Enron Energy Services, Inc., Enron MW, LLC, and Enron North America Corp.

E-68.

Docket# PA02-2, 000, Fact-Finding Investigation of Potential Manipulation of Electric and Natural Gas Prices.

E-69.

Docket# EL03-55, 001, AES Warrior Run, Inc., v. Potomac Edison Company d/b/a Allegheny Power.

E-70.

Docket# ER03-601, 000, San Diego Gas & Electric Company.

E-71.

Docket# ER98-3527, 004, PJM Interconnection L.L.C.

E-72.

Docket# ER04-64, 000, American Electric Power Service Corporation.

E-73.

Omitted

E-74.

Docket# ER04-61, 000, California Independent System Operator Corporation.

E-75.

Docket# ER04-111, 000, California Power Exchange Corporation.

E-76.

Docket# ER01-2658, 000, American Electric Power Service Corporation.

Other#s EL00-79, 000, Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc., and Taylor Electric Cooperative, Inc., v. West Texas Utilities Company.

EL01-113, 000, Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc., and Taylor Electric Cooperative, Inc., v. West Texas Utilities Company.

EC01-130, 000, American Electric Power Services Corporation.

ER01-2658, 001, American Electric Power Services Corporation.

ER01-2668, 000, American Electric Power Services Corporation.

ER01-2977, 000, American Electric Power Services Corporation.

ER01-2977, 001, American Electric Power Services Corporation.

ER01-2980, 000, American Electric Power Services Corporation.

ER01-2980, 001, American Electric Power Services Corporation.

EL02-24, 000, Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc., and Taylor Electric Cooperative, Inc., v. West Texas Utilities Company.

ER02-371, 000, American Electric Power Services Corporation.

ER02-371, 001, American Electric Power Services Corporation.

ER02-371, 002, American Electric Power Services Corporation.

ER02-602, 000, American Electric Power Services Corporation.

ER02-602, 001, American Electric Power Services Corporation.

ER02-1216, 000, American Electric Power Services Corporation.

ER02-1410, 000, West Texas Utilities Company.

E-77.

Docket# EG04-16,000, Central Mississippi Generating Company, LLC.

E-78.

Docket# ER03-694, 000, PJM Interconnection L.L.C.

Other#s ER03-694, 001, PJM Interconnection L.L.C.

E-79.

Docket# EL02-111, 004, Midwest Independent Transmission System Operator, Inc.

Other#s EL02-111, 005, Midwest Independent Transmission System Operator, Inc.

EL02-111, 006, Midwest Independent Transmission System Operator, Inc.

EL02-111, 007, Midwest Independent Transmission System Operator, Inc.

EL02-111, 008, Midwest Independent Transmission System Operator, Inc.

EL03-212, 002, Midwest Independent Transmission System Operator, Inc.

EL04-5, 000, American Electric Power Service Corporation.

Markets, Tariffs and Rates—Gas

G-1.

Docket# RP00-152, 002, Northern Natural Gas Company.

G-2.

Docket# PL02-6, 001, Natural Gas Pipeline Negotiated Rate Policies and Practices.

G-3.

Docket# RP03-591, 001, CenterPoint Energy Gas Transmission Company.

G-4.

Docket# RP03-604, 000, LSP-Cottage Grove, L.P. and LSP-Whitewater Limited Partnership v. Northern Natural Gas Company.

G-5.

Docket# RP02-153, 004, Horizon Pipeline Company, L.L.C.

Other#s RP02-153, 005, Horizon Pipeline Company, L.L.C.

G-6.

Docket# RP04-57, 000, Transcontinental Gas Pipe Line Corporation.

G-7.

Docket# RP04-58, 000, Trunkline Gas Company, L.L.C.

G-8.

Docket# RP04-47, 000, High Island Offshore System, L.L.C.

G-9.

Docket# RP00-337, 006, Kern River Gas Transmission Company.

G-10.

Docket# RP00-533, 006, Algonquin Gas Transmission Company.

Other#s RP00-533, 008, Algonquin Gas Transmission Company.

G-11.

Docket# RP02-489, 003, Maritimes & Northeast Pipeline, L.L.C.

G-12.

Docket# RP02-493, 003, East Tennessee Natural Gas Company.

G-13.

Omitted

G-14.

Omitted

G-15.

Docket# RP03-13, 003, Transcontinental Gas Pipe Line Corporation.

Other#s RP01-236, 013, Transcontinental Gas Pipe Line Corporation.

G-16.

Docket# RP02-492, 003, Algonquin Gas Transmission Company.

G-17.

Docket# RP02-494, 003, Texas Eastern Transmission, LP.

G-18.

Omitted

G-19.

Docket# SA04-1, 000, CEC Technologies, Limited.

G-20.

Omitted

G-21.

Docket# RP02-114, 003, Tennessee Gas Pipeline Company.

Other#s RP02-114, 002, Tennessee Gas Pipeline Company.

G-22.

Omitted

G-23.

Docket# PR97-1, 001, Consumers Power Company.

G-24.

Docket# RP03-492, 002, Columbia Gulf Transmission Company.

G-25.

Docket# RP02-241, 003, Southern Star Central Gas Pipeline, Inc.

G-26.

Omitted

G-27.

Docket# RP03-243, 002, Nicole Gas Production, Ltd.

G-28.

Docket# RP03-70, 003, PG&E Gas Transmission, Northwest Corporation.

Other#s RP03-70, 002, PG&E Gas Transmission, Northwest Corporation.

G-29.

Docket# RP03-491, 002, Columbia Gas Transmission Corporation.

G-30.

Omitted

G-31.

Docket# RP02-363, 005, North Baja Pipeline LLC.

Other#s RP02-363, 002, North Baja Pipeline LLC.

RP02-363,006 North Baja Pipeline LLC.

G-32.

Omitted

G-33.

Omitted

G-34.

Docket# OR03-6, 000, Sinclair Oil Corporation v. ChevronTexaco Pipeline Company.

G-35.

Omitted

G-36.

Docket# RP04-103, 000, Northern Natural Gas Company.

G-37.

Docket# RP03-551, 000, Wisconsin Gas Company v. Viking Gas Transmission Co.

Energy Projects—Hydro

H-1.

Omitted

H-2.

Omitted

H-3.

Omitted

H-4.

Omitted

H-5.

Omitted

H-6.

Docket# P-2105, 090, Pacific Gas and Electric Company.

H-7.

Docket# P-2852, 015, New York State Electric & Gas Corporation.

H-8.

Omitted

H-9.

Docket# P-516, 319, South Carolina Electric & Gas Company.

Other#s P-516, 321, South Carolina Electric & Gas Company.

P-516, 326, South Carolina Electric & Gas Company.

P-516, 329, South Carolina Electric & Gas Company.

P-516, 330, South Carolina Electric & Gas Company.

P-516, 331, South Carolina Electric & Gas Company.

P-516, 332, South Carolina Electric & Gas Company.

P-516, 333, South Carolina Electric & Gas Company.

P-516, 354, South Carolina Electric & Gas Company.

P-516, 355, South Carolina Electric & Gas Company.

P-516, 356, South Carolina Electric & Gas Company.

P-516, 357, South Carolina Electric & Gas Company.

P-516, 358, South Carolina Electric & Gas Company.

P-516, 359, South Carolina Electric & Gas Company.

H-10.

Docket# P-1494, 260, Grand River Dam Authority.

H-11.

Docket# P-2299, 053, Turlock Irrigation District and Modesto Irrigation District.

H-12.

Docket# P-460, 028, City of Tacoma, Washington.

Energy Projects—Certificates

C-1.

Omitted

C-2.

Docket# CP03-338, 000, Panther Interstate Pipeline Energy, LLC.

Other#s CP03-337, 000, Natural Gas Pipeline Company of America.

CP03-339, 000, Panther Interstate Pipeline Energy, LLC.

CP03-340, 000, Panther Interstate Pipeline Energy, LLC.

C-3.

Docket# CP96-53, 011, NE Hub Partners, L.P.

C-4.

Omitted

C-5.

Docket# CP04-10, 000, EnCana Border Pipelines Limited and Omimex Canada, Ltd.

Other#s CP04-11, 000, Chinook Pipeline Company and Omimex Canada, Ltd.

C-6.

Docket# CP03-330, 000, Tennessee Gas Pipeline Company.

C-7.

Docket# CP03-41, 001, Dominion Transmission, Inc.

Other#s CP03-43, 001, Texas Eastern Transmission, L.P.

C-8.

Docket# CP02-233, 001, Equitrans, L.P. and Carnegie Interstate Pipeline Company.

Magalie R. Salas,
Secretary.

[FR Doc. 03-31171 Filed 12-12-03; 5:03 pm]

BILLING CODE 6717-01-P